DEPARTMENT OF AGRICULTURE

Agricultural Marketing Service

[Docket # AMS-FV-07-0036; FV-06-318]

United States Standards for Grades of Pineapples

AGENCY: Agricultural Marketing Service, USDA.

ACTION: Notice.

SUMMARY: The Agricultural Marketing Service (AMS) is soliciting comments on its proposal to revise the United States Standards for Grades of Pineapples. The proposal would replace Tables I and II in the tolerances section with numerical tolerances and numerical application of tolerances. Decay tolerances would also be revised. The proposed revisions would make the United States Standards for Grades of Pineapples more uniform with other existing grade standards and would better serve the industry.

DATES: Comments must be received by October 15, 2007.

ADDRESSES: Interested persons are invited to submit written comments on the internet at http://www.regulations.gov or to the Standardization Section, Fresh Products Branch, Fruit and Vegetable Programs, Agricultural Marketing Service, U.S. Department of Agriculture; 1400 Independence Ave., SW., Room 1661 South Building, Stop 0240, Washington, DC 20250-0240; or fax (202) 720-8871. Comments should make reference to the dates and page number of this issue of the Federal Register and will be made available for public inspection in the above office during regular business hours. The United States Standards for Grades of Pineapples are available through the Fresh Products Branch Web site at: http://www.ams.usda.gov/standards/stanfrfv.htm.

FOR FURTHER INFORMATION CONTACT: Vincent J. Fusaro, Standardization Section, Fresh Products Branch, (202) 720-2185.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” The Agricultural Marketing Service (AMS) is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS is proposing to revise the United States Standards for Grades of Pineapples using the procedures that appear in Part 36, Title 7 of the Code of Federal Regulations (7 CFR part 36). These standards were last revised July 5, 1990.

Background

On September 21, 2006, AMS published a notice in the Federal Register (71 FR 55160) soliciting comments for the possible revision of the United States Standards for Pineapples. In response to this notice, AMS received two comments supporting the proposed revision. The comments are available by accessing the AMS, Fresh Products Branch Web site at: http://www.ams.usda.gov/fv/fpbdocketlist.htm as well as http://www.regulations.gov.

One comment was from a pineapple producer and the second comment was from a trade association representing wholesale receivers.

The first commenter supported changing the tables in the tolerance section to numerical tolerances. They also suggested revising the “Definitions” and “Classification of Defects” sections of the standard, which they felt would make pineapple inspections more representative of the new hybrid clones. In order to account for new varieties and/or hybrids, AMS continuously updates all of its inspection handbooks, and believes that revising the pineapple inspection handbook to include definitions and classification of certain defects, would allow for new hybrids/varieties to be represented as they are produced and introduced into the marketing chain. Therefore, AMS will review the commentor's suggestions and address any needed revisions in future handbook updates and not in this action.

The second commenter also felt the proposed revision would be beneficial to the industry. The commenter also submitted the following tolerances which they felt would be appropriate for pineapples: Shipping Point: Total Defects 8 percent, Serious Damage 4 percent, Decay ½ of 1 percent. En Route or At Destination: Total Defects 12 percent, Permanent Defects 8 percent, Serious Damage 6 percent, Decay 2 percent. After reviewing the commentor's proposed tolerances, it was determined that the proposed shipping point decay tolerance was too restrictive and taking into account current marketing practices not practicable to achieve required level of quality compared to the current tables in the standards. Therefore, AMS has modified the commentor's proposed language and tolerances in reference to the shipping point decay tolerance. The following language and tolerances are being proposed:

Tolerances: In order to allow for variations incident to proper grading and handling in each of the foregoing grades, the following tolerances, by count are provided as specified: U.S. Fancy and U.S. No. 1 Shipping Point: 8 percent for fruit which fails to meet the requirements of the specified grade: Provided, that included in this amount not more than the following percentages shall be allowed for the defects listed: 4 percent for defects causing serious damage, including in the later amount not more than 1 percent for decay. En Route or At Destination: 12 percent for fruit which fails to meet the requirements of the specified grade: Provided, that included in this amount not more than the following percentages shall be allowed for the defects listed: 8 percent for permanent defects; 6 percent for defects causing serious damage; including therein not more than 4 percent for serious damage by permanent defects and not more than 2 percent decay. U.S. No. 2 Shipping Point: 8 percent for fruit which fails to meet the requirements of the specified grade: Provided, that included in this amount not more than 1 percent for decay. En Route or At Destination: 12 percent for fruit which fails to meet the requirements of the specified grade: Provided, that included in this amount not more than the following percentages shall be allowed for the defects listed: 8 percent for permanent defects; and not more than 2 percent for decay. Application of Tolerances: Individual samples shall have not more than double a specified tolerance except that at least two defective specimens may be permitted in any container: Provided, That no more than one specimen affected by decay be permitted in any container, and provided further, that the averages for the entire lot are within the tolerances specified for the grades.

AMS is soliciting comments on the proposed revision to the U.S. Standards for Grades of Pineapples. The official grades of pineapples covered by these standards are determined by the procedures set forth in the Regulations Governing Inspection, Certification, and Standards of Fresh Fruits, Vegetables and Other Products (7 CFR 51.1 to 51.61).

This notice provides for a 60-day comment period for interested parties to comment on changes to the standards. AMS is seeking comments regarding how marketing of pineapples will be effected with this revision.

Authority: 7 U.S.C. 1621—1627.

Dated: August 9, 2007.
Lloyd C. Day,
Administrator, Agricultural Marketing Service.

[FR Doc. E7-15951 Filed 8-14-07; 8:45 am]

BILLING CODE 3410-02-P